DEPARTMENT OF ENERGY

Federal Energy Regulatory Commission

Notice of Effectiveness of Exempt Wholesale Generator Status

| Docket Nos.
CPV Fairview, LLC | EG17-103-000
Sunray Energy 2 LLC | EG17-104-000
Sunray Energy 3 LLC | EG17-105-000
Rock Creek Wind Project, LLC | EG17-106-000
Clenera, LLC | EG17-107-000
Carroll County Energy LLC | EG17-108-000
Rock Falls Wind Farm LLC | EG17-109-000
Hog Creek Wind Project, LLC | EG17-110-000
Mineral Point Energy LLC | EG17-111-000
Wrighter Energy LLC | EG17-112-000
Algonquin Power Sanger LLC | EG17-113-000
Hattieburg Farm, LLC | EG17-114-000
Vale S.A | FC17-1-000

Take notice that during the month of July 2017, the status of the above-captioned entities as Exempt Wholesale Generators or Foreign Utility Companies became effective by operation of the Commission's regulations. 18 CFR 366.7(a) (2016)

Dated: August 3, 2017.
Nathaniel J. Davis, Sr.,
Deputy Secretary.

[FR Doc. 2017-16762 Filed 8-8-17; 8:45 am]

BILLING CODE 6717-01-P